DEPARTMENT OF ENERGY

10 CFR Parts 429, 430, and 431

[EERE-2016-BT-TP-0011]

RIN 1904-AD95

Energy Conservation Program: Test Procedures for Residential and Commercial Clothes Washers

AGENCY: Office of Energy Efficiency and Renewable Energy, Department of Energy.

ACTION: Notice of proposed rulemaking; extension of public comment period.

SUMMARY: The U.S. Department of Energy (“DOE”) is extending the public comment period for the notice of proposed rulemaking (“NOPR”) regarding proposals to amend the test procedures for residential and commercial clothes washers. DOE published the NOPR in the Federal Register on September 1, 2021, establishing a 61-day public comment period ending November 1, 2021. On October 11, 2021, DOE received a comment requesting extension of the comment period by an additional 92 days to February 1, 2022. DOE is extending the public comment period for submitting comments and data on the NOPR document by an additional 28 days, to November 29, 2021, for a total of an 89-day comment period.

DATES: The comment period for the NOPR published on September 1, 2021 (86 FR 49140), is extended. DOE will accept comments, data, and information regarding this NOPR no later than November 29, 2021.

ADDRESSES: Interested persons are encouraged to submit comments using the Federal eRulemaking Portal at www.regulations.gov. Follow the instructions for submitting comments. Alternatively, interested persons may submit comments by email to the following address: ResClothesWasher2016TP0011@ee.doe.gov. Include “Energy Conservation Program: Test Procedures for Residential and Commercial Clothes Washers” and docket number EERE-2016-BT-TP-0011 and/or RIN number 1904-AD95 in the subject line of the message. Submit electronic comments in WordPerfect, Microsoft Word, PDF, or ASCII file format, and avoid the use of special characters or any form of encryption.

Although DOE has routinely accepted public comment submissions through a variety of mechanisms, including postal mail and hand delivery/courier, the Department has found it necessary to make temporary modifications to the comment submission process in light of the ongoing corona virus (COVID-19) pandemic. DOE is currently accepting only electronic submissions at this time. If a commenter finds that this change poses an undue hardship, please contact Appliance Standards Program staff at (202) 586-1445 to discuss the need for alternative arrangements. Once the COVID-19 pandemic health emergency is resolved, DOE anticipates resuming all of its regular options for public comment submission, including postal mail and hand delivery/courier.

No telefacsimilies (faxes) will be accepted.

Docket: The docket for this activity, which includes Federal Register notices, comments, and other supporting documents/materials, is available for review at www.regulations.gov. All documents in the docket are listed in the www.regulations.gov index. However, some documents listed in the index, such as those containing information that is exempt from public disclosure, may not be publicly available.

The docket web page can be found at www.regulations.gov/docket/EERE-2016-BT-TP-0011. The docket web page contains instructions on how to access all documents, including public comments in the docket.

FOR FURTHER INFORMATION CONTACT: Mr. Bryan Berringer, U.S. Department of Energy, Office of Energy Efficiency and Renewable Energy, Building Technologies Office, EE-5B, 1000 Independence Avenue SW, Washington, DC 20585-0121. Telephone: (202) 586-0371. Email: ApplianceStandardsQuestions@ee.doe.gov.

Ms. Kathryn McIntosh, U.S. Department of Energy, Office of the General Counsel, GC-33, 1000 Independence Avenue SW, Washington, DC 20585-0121. Telephone: (202) 586-2002. Email: KathrynMcIntosh@hq.doe.gov.

For further information on how to submit a comment or review other public comments and the docket contact the Appliance and Equipment Standards Program staff at (202) 287-1445 or by email: ApplianceStandardsQuestions@ee.doe.gov.

SUPPLEMENTARY INFORMATION: On September 1, 2021, DOE published a NOPR in the Federal Register soliciting public comment on its proposed amendments to the test procedures for residential and commercial clothes washers. 86 FR 49140. Comments were originally due on November 1, 2021. On October 11, 2021, DOE received a comment from the Association of Home Appliance Manufacturers to extend the comment period by 92 days to February 1, 2022.¹

¹ DOE has posted this comment to the docket at www.regulations.gov/comment/EERE-2016-BT-TP-0011-0020.

DOE has reviewed the request and considered the benefit to stakeholders in providing additional time to review the NOPR and gather information/data that DOE is seeking. Accordingly, DOE has determined that an extension of the comment period is appropriate and is hereby extending the comment period by an additional 28 days to November 29, 2021, for a total of an 89-day comment period.

Signing Authority

This document of the Department of Energy was signed on October 19, 2021, by Kelly Speakes-Backman, Principal Deputy Assistant Secretary and Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on October 20, 2021.
Treena V. Garrett,
Federal Register Liaison Officer, U.S. Department of Energy.

[FR Doc. 2021-23242 Filed 10-27-21; 8:45 am]

BILLING CODE 6450-01-P